NUCLEAR REGULATORY COMMISSION

[NRC-2009-0107]

Notice of Issuance of Regulatory Guide

AGENCY: Nuclear Regulatory Commission.

ACTION: Notice of Issuance and Availability of Regulatory Guide 1.215.

FOR FURTHER INFORMATION CONTACT: R.A. Jervey, Regulatory Guide Development Branch, Division of Engineering, Office of Nuclear Regulatory Research, U.S. Nuclear Regulatory Commission, Washington, DC 20555-0001, telephone (301) 251-7404 or e-mail to RAJ@nrc.gov.

SUPPLEMENTARY INFORMATION:

I. Introduction

The Nuclear Regulatory Commission (NRC) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 1.215, Revision 0, “Guidance for ITAAC Closure Under 10 CFR Part 52,” was issued with a temporary identification as Draft Regulatory Guide, DG-1204. This guide describes a method that the staff of the NRC considers acceptable for use in satisfying the requirements for documenting the completion of inspections, tests, analyses, and acceptance criteria (ITAAC). In particular, this guide endorses the methodologies described in the industry guidance document Nuclear Energy Institute (NEI) 08-01, “Industry Guideline for the ITAAC Closure Process Under 10 CFR Part 52,” Revision 3, issued January 2009, for the implementation of Title 10, Section 52.99, “Inspection during construction,” of the Code of Federal Regulations (10 CFR 52.99).

II. Further Information

In March 2009, DG-1204 was published with a public comment period of 60 days from the issuance of the guide. The public comment period closed on May 13, 2009. The staff's responses to the comments received are located in the NRC's Agencywide Documents Access and Management System under accession number ML091480083. Electronic copies of Regulatory Guide 1.215, Revision 0 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 5th day of October 2009.
For the Nuclear Regulatory Commission.
Andrea D. Valentin,
Chief, Regulatory Guide Development Branch, Division of Engineering, Office of Nuclear Regulatory Research.

[FR Doc. E9-25144 Filed 10-19-09; 8:45 am]

BILLING CODE 7590-01-P